SECURITIES AND EXCHANGE COMMISSION

Sunshine Act Meeting

Federal Register Citation of Previous Announcement: [76 FR 41534, July 14, 2011].

STATUS: Open Meeting.

PLACE: 100 F Street, NE., Washington, DC.

DATE AND TIME OF PREVIOUSLY ANNOUNCED MEETING: Thursday, July 14, 2011.

CHANGE IN THE MEETING: Cancellation of Meeting.

The Open Meeting scheduled for Thursday, July 14, 2011 at 10 a.m. has been cancelled.

For further information please contact the Office of the Secretary at (202) 551-5400.

Dated: July 13, 2011.
Cathy H. Ahn,
Deputy Secretary.

[FR Doc. 2011-18051 Filed 7-14-11; 11:15 am]

BILLING CODE 8011-01-P